DEPARTMENT OF JUSTICE

[AAG/A Order No. 234-2001]

Privacy Act of 1974; System of Records

The Department of Justice proposes to modify the Controlled Substances Act Nonpublic Records System, JUSTICE/JMD-002. The primary purpose for establishing the system of records was to retain a nonpublic record as required by former section 404(b) of Public Law 91-513, the Controlled Substances Act, solely for use by the Federal courts in determining in subsequent proceedings, whether a person found guilty of violating that Act qualified for dismissal and discharge or for an expungement order under certain of the Act's provisions. That provision was removed from the Controlled Substances Act by the Sentencing Reform Act of 1984, Public Law 98-473, Title II, and incorporated in substantially identical form into a newly enacted provision of the criminal code, 18 U.S.C. 3607(b).

The Department now proposes to modify the system to reflect the appropriate authority for maintenance of the system. The routine use section of the system notice has been modified to delete unnecessary routine use disclosures.

In addition, the Department is revising the “System Location” and “System Manager and Address” sections to reflect a move of the system.

Title 5 U.S.C. 552a(e)(4) and (11) provide that the public be given 30 days in which to comment on the proposed routine uses. Any comments must be submitted in writing to Mary Cahill, Management Analyst, Management and Planning Staff, Justice Management Division, Department of Justice, Washington, DC 20530 by (30 days from publication of this notice).

As required by 5 U.S.C. 552a(r) and Office of Management and Budget (OMB) implementing regulations, the Department of Justice has provided a report on the proposed changes to OMB and the Congress.

A modified system description is set forth below.

Dated: June 18, 2001.
Janis A. Sposato,
Acting Assistant Attorney General for Administration.

JUSTICE/JMD-002

System Name:

Controlled Substances Act Nonpubic Records.

System Location:

U.S. Department of Justice, Justice Management Division, Information Management and Security Staff, Washington, DC 20530.

Categories of individuals covered by the System:

Persons found guilty for the first time of violating section 404 of the Controlled Substances Act (21 U.S.C. 844), i.e., persons who knowingly or intentionally possessed a controlled substance, except as authorized by the Act, whose cases have been in subject of a disposition under 18 U.S.C. 3607(a) or an order of expungement under 18 U.S.C. 3607(c).

Categories of records in the system:

Arrest records of law enforcement agencies, which include personal data, photographs, fingerprints, copies of court orders and Form OBD-140 (18 U.S.C. 3607).

authority for maintenance of the system:

This system is established and maintained in accordance with Public Law 98-473, Chapter II, the sentencing Reform Act of 1984 (18 U.S.C. 3607).

Routine uses of records maintained in the system, including categories of users and the purposes of such uses:

These records are retained by the Department of Justice and are available only to a Federal court upon that court's issuance of an order demanding such records solely for the purpose of use by said court in determining whether or not a person found guilty of an offense under section 404 of the Controlled Substances Act (21 U.S.C. 844) qualifies for the disposition provided in 18 U.S.C. 3607(a) or the expungement provided in 18 U.S.C. 3607(c).

Release of information to the National Archives and Records Administration:

Subject to approval by the Attorney General or the President under 44 U.S.C. 2906, a record from this system of records may be disclosed to the National Archives and Records Administration (NARA) as part of a records management inspection conducted under the authority of 44 U.S.C. 2904.

Policies and practices for storing, retrieving, accessing, retaining, and disposing of records in the system:

Storage: Records are stored in a locked room.

Retrievability: Records are indexed by the name of the offender.

Safeguards:

Access to these records is restricted to the Departmental Records Officer and Assistant Director, Information Security and Records Management, information Management and Security Staff, Justice Management Division.

Retention and disposal:

Records are retained in accordance with records retention and disposal schedules approved by the Archivist of the United States.

System manager(s) and address:

Director, Information Management and Security Staff, Justice Management Division, U.S. Department of Justice, Washington, D.C. 20530.

Notification procedures:

Same as the System Manager.

Record Access procedures:

Same as the System Manger.

Contesting record procedures:

Same as the system manager.

Record source categories:

Law enforcement agencies and Federal courts.

Exemptions claimed for the system:

The Attorney General has exempted the system from subsection (d) of the Privacy Act pursuant to 5 U.S.C. 552a(j)(2). Rules have been promulgated in accordance with the requirements of 5 U.S.C. 553(b)(c) and (e) and have been published in the Federal Register. A proposed rule which update the justification for the exemption is being published in today's Federal Register.

[FR Doc. 01-16142 Filed 7-19-01; 8:45 am]

BILLING CODE 4410-FB-M